DEPARTMENT OF TRANSPORTATION

Federal Aviation Administration

14 CFR Part 39

[Docket No. FAA-2005-20917; Directorate Identifier 2004-NM-85-AD]

RIN 2120-AA64

Airworthiness Directives; Boeing Model 747-100, -200B, -200F, -200C, -100B, -300, -100B SUD, -400, -400D, and -400F Series Airplanes; and Model 747SR Series Airplanes

AGENCY: Federal Aviation Administration (FAA), DOT.

ACTION: Notice of proposed rulemaking (NPRM).

SUMMARY: The FAA proposes to supersede two existing airworthiness directives (AD) for certain Boeing transport category airplanes. One AD currently requires doing certain inspections to detect cracks and corrosion around the lower bearing of the actuator attach fittings of the inboard and outboard flaps; repairing if necessary; and either overhauling the fittings or replacing them, which when done on certain actuator attach fittings ends the repetitive inspections. The other AD currently requires certain other inspections to detect discrepancies of the fittings of the flaps, and follow-on and corrective actions if necessary, which ends the repetitive inspections of the first AD. For certain airplanes, this proposed AD would require new inspections for discrepancies of the attach fittings of the flaps, and follow-on and corrective actions if necessary, which ends the repetitive inspections of both existing ADs. For all airplanes, this proposed AD would require repetitive overhaul/replacements of the fittings of both the inboard and outboard flaps. This proposed AD is prompted by reports of cracks of the attach fittings of the trailing edge flaps. We are proposing this AD to prevent cracking and other damage of the actuator attach fittings of the trailing edge flaps, which could result in abnormal operation or retraction of a trailing edge flap, and possible loss of controllability of the airplane.

DATES: We must receive comments on this proposed AD by May 31, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: room PL-401 on the plaza level of the Nassif Building, 400 Seventh Street SW., Washington, DC, between 9 a.m. and 5 p.m., Monday through Friday, except Federal holidays.

You can get the service information identified in this proposed AD from Boeing Commercial Airplanes, P.O. Box 3707, Seattle, Washington 98124-2207.

You may examine the contents of this AD docket on the Internet at http://dms.dot.gov, or at the Docket Management Facility, U.S. Department of Transportation, 400 Seventh Street SW., room PL-401, on the plaza level of the Nassif Building, Washington, DC.

FOR FURTHER INFORMATION CONTACT: Gary Oltman, Aerospace Engineer, Airframe Branch, ANM-120S, FAA, Seattle Aircraft Certification Office, 1601 Lind Avenue, SW., Renton, Washington 98055-4056; telephone (425) 917-6443; fax (425) 917-6590.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2005-20917; Directorate Identifier 2004-NM-85-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 20, 2001, we issued AD 2001-13-12, amendment 39-12292 (66 FR 34526, June 29, 2001), for certain Boeing Model 747 series airplanes. That AD requires repetitive inspections to detect cracks and corrosion around the lower bearing of the actuator attach fittings of the inboard and outboard flaps. That AD also requires repetitive overhauls for certain actuator attach fittings or repetitive replacement of the fittings with new fittings, as applicable, which terminates the repetitive inspections. That AD also provides for replacement of actuator attach fittings with improved fittings, which terminates all requirements of that AD. That AD was prompted by reports of cracks on the lower bearing journal of the inboard actuator attach fittings of the outboard trailing edge flaps due to stress corrosion. We issued that AD to detect and correct cracking on the actuator attach fittings of the trailing edge flaps, which could result in abnormal operation or retraction of a trailing edge flap, and consequent reduced controllability of the airplane.

On April 14, 2003, we issued AD 2003-08-11, amendment 39-13124 (68 FR 19937, April 23, 2003), for all Boeing Model 747-100, -200B, -200F, -200C, -100B, -300, -100B SUD, -400, -400D, and -400F series airplanes; and Model 747SR series airplanes. That AD requires repetitive inspections to detect discrepancies of the actuator attach fittings of the inboard and outboard flaps, which are more comprehensive than those required by AD 2001-13-12, and follow-on and corrective actions as necessary. That AD was prompted by reports of three fractures of the attach fittings of the trailing edge flap actuator. We issued that AD to detect and correct cracking and other damage of the actuator attach fittings of the trailing edge flaps, which could result in abnormal operation or retraction of a trailing edge flap, and possible loss of controllability of the airplane.

In the preamble of AD 2003-08-11, we indicated that the actions required by that AD were considered “interim action,” and that further rulemaking action was being considered to require repetitive replacement of the fittings with new or overhauled fittings. We now have determined that further rulemaking action is indeed necessary, and this proposed AD follows from that determination.

Relevant Service Information

We have previously reviewed Boeing Alert Service Bulletin 747-57A2316, dated December 19, 2002 (cited in AD 2003-08-11 as the appropriate source of service information for the required actions). The service bulletin describes procedures for repetitive inspections of the attach fittings of the inboard and outboard flaps to detect discrepancies (i.e., Part 1). The inboard fittings are to be inspected using borescopic and detailed visual methods; and the outboard fittings are to be inspected using borescopic, detailed visual, and ultrasonic methods. The service bulletin also describes procedures for repetitive detailed visual (inboard and outboard flaps) and ultrasonic (outboard flap only) inspections with the attach fittings removed to detect discrepancies (i.e., Part 2). Discrepancies include surface corrosion, pitting, cracks, migrated or rotated bushings, and damaged or missing cadmium plating. The service bulletin also describes procedures for corrective and follow-on actions if necessary (i.e., Parts 3 through 5), which includes repetitive detailed visual inspections to detect bushing migration and cracking and other damage of the actuator attach fittings; repetitive application of corrosion-inhibiting compound; and repetitive overhaul or replacement of any discrepant fitting with a new or overhauled fitting; as applicable. Repetitive overhauls of the attach fittings on the outboard and inboard flaps or repetitive replacements of those attach fittings with new or overhauled fittings (i.e., Part 5) ends the need for repetitive inspections.

The manufacturer advises that Boeing Alert Service Bulletin 747-57A2316 replaces Boeing Alert Service Bulletin 747-57A2310 (cited as the appropriate source of service information for the requirements of AD 2001-13-12). We have determined that accomplishing the actions specified in Boeing Service Bulletin 747-57A2316 will adequately address the unsafe condition.

FAA's Determination and Requirements of the Proposed AD

We have evaluated all pertinent information and identified an unsafe condition that is likely to exist or develop on other products of this same type design. Therefore, we are proposing this AD, which would supersede ADs 2001-13-12 and 2003-08-11. This proposed AD would continue to require the following actions specified in AD 2001-13-12:

• Repetitive inspections to detect cracks and corrosion around the lower bearing of the actuator attach fittings of the inboard and outboard flaps, and repair if necessary; and

• Repetitive overhauls of the actuator attach fittings on the outboard flaps and a one-time overhaul of the fittings on the inboard flaps, which ends the applicable repetitive inspections described previously; or repetitive replacements of the fittings on the inboard and outboard flaps with new fittings or a one-time replacement of those fittings with improved fittings, which ends the repetitive inspections described previously.

In addition, this proposed AD would continue to require the following actions specified in AD 2003-08-11: Repetitive inspections to detect discrepancies of the actuator attach fittings of the inboard and outboard flaps (i.e., Part 1) and follow-on/corrective actions as necessary (i.e, Parts 2 and 5). Accomplishing the initial inspections (i.e., Part 1) would end the repetitive inspections around the lower bearing of the fittings of the inboard and outboard flaps described previously. This proposed AD would also require the actions specified in Parts 2 through 5 of Boeing Alert Service Bulletin 747-57A2316 described previously, except as discussed under “Difference Between the Proposed AD and the Service Bulletin.” Accomplishing the actions in Part 2 of the service bulletin ends the inspections specified in Part 1 of the service bulletin. Accomplishing the actions in Part 5 of the service bulletin (i.e. repetitive overhauls or replacements of the attaching fittings at intervals not to exceed 8 years) ends all repetitive inspections for both inboard and outboard actuator attach fittings over eight years old. The compliance times are as follows:

• Part 1: 90 days (for inboard and outboard flaps);

• Part 2: 9 months (for inboard flaps), 18 months (for outboard flaps), and before further flight if any crack, corrosion, or damaged cad plating is found on either the inboard or outboard flap;

• Part 3: Repetitive intervals of 9 months (for inboard flaps only);

• Part 4: Repetitive intervals of 9 months (for outboard flaps only); and

• Part 5: Ranges from before the attach fitting is 8 years old, or within 2 years, whichever occurs first, to 3 years depending on the age of the outboard and inboard attach fittings. If any crack, corrosion, or damaged cad plating is found on either the inboard or outboard flap, the compliance time is before further flight.

Difference Between the Proposed AD and the Service Bulletin

Boeing Alert Service Bulletin 747-57A2316 refers to “detailed visual inspection” for discrepancies of the actuator attach fittings of the inboard and outboard flaps. We have determined that the procedures in the service bulletin should be described as a “detailed inspection.” Note 1 has been included in this proposed AD to define this type of inspection.

Change to Existing ADs

This proposed AD would retain all requirements of ADs 2001-13-12 and 2003-08-11. Since those ADs were issued, the AD format has been revised, and certain paragraphs have been rearranged. As a result, the corresponding paragraph identifiers have changed in this proposed AD, as listed in the following two tables:

Revised Paragraph Identifiers
Requirement in AD 2001-13-12 | Corresponding requirement in this proposed AD
paragraph (a) | paragraph (g)
paragraph (b) | paragraph (h)
paragraph (c) | paragraph (i)
paragraph (d) | paragraph (j)
paragraph (e) | paragraph (k)
paragraph (f) | paragraph (l)

Requirement in AD 2003-08-11 | Corresponding requirement in this proposed AD
paragraph (a) | paragraph (m)
paragraph (b) | paragraph (n)
paragraph (c) | paragraph (o)
paragraph (d) | paragraph (p)

We also have changed all references to a “detailed visual inspection” in the existing ADs to “detailed inspection” in this action. In addition, we have added a new requirement that, as of the effective date of this AD, the repetitive overhauls and replacements in paragraphs (j)(1) and (k)(1) of this proposed AD (paragraphs (d) and (e)(1) of AD 2001-13-12), respectively, must be done in accordance with Part 5 of the Accomplishment Instructions of Boeing Alert Service Bulletin 747-57A2316, dated December 19, 2002, at intervals not to exceed 8 years. The repetitive intervals for those repetitive requirements in AD 2001-13-12 are 8 years or 8,000 flight cycles, whichever occurs first. Because corrosion is time dependant rather than flight-cycle dependant, we determined that the intervals for the repetitive overhauls and replacements should be based on time only. We also determined that operators should accomplish those actions in accordance with the latest service bulletin.

Costs of Compliance

This proposed AD would affect about 1,000 Model 747-100, -200B, -200F, -200C, -100B, -300, -100B SUD, -400, -400D, and -400F series airplanes; and Model 747SR series airplanes worldwide. There are about 181 airplanes on the U.S. registry. The average labor rate is $65 per hour. The following two tables provide the estimated costs for U.S. operators to comply with this proposed AD.

Table 1.—Estimated Costs
Action | Work hours | Parts | Cost per airplane | Fleet cost
Inspections (required by AD 2001-13-12) | 2 | None | $130, per inspection cycle | $23,530, per inspection cycle.
Inspections specified in Part 1 of the Accomplishment Instruction (AI) of the referenced service bulletin (required by AD 2003-08-11) | 2 | None | $130 per inspection cycle | $23,530 per inspection cycle.
Inspections specified in Part 2 of the AI of the referenced service bulletin (new proposed actions) | 5 | None | $325 per inspection cycle | $58,825 per inspection cycle.

Table 2.—Estimated Costs
Action | Work hours | Parts | Cost per airplane
Overhaul(s) as an alternative to the replacement | 37 | None | $2,405.
Replacement(s) as an alternative to the overhaul | 4 | $6,623 (for the four attach fittings on the outboard flaps) and $7,566 (for the four attach fittings on the inboard flaps) | $6,883 (for the four attach fittings on the outboard flaps) and $7,826 (for the four attach fittings on the inboard flaps), per replacement cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendments 39-12292 (66 FR 34526, June 29, 2001) and 39-13124 (68 FR 19937, April 23, 2003) and adding the following new airworthiness directive (AD):

Boeing: Docket No. FAA-2005-20917; Directorate Identifier 2004-NM-85-AD.

Comments Due Date

(a) The Federal Aviation Administration must receive comments on this airworthiness directive (AD) action by May 31, 2005.

Affected ADs

(b) This AD supersedes AD 2001-13-12, amendment 39-12292; and AD 2003-08-11, amendment 39-13124.

Applicability: (c) This AD applies to all Boeing Model 747-100, -200B, -200F, -200C, -100B, -300, -100B SUD, -400, -400D, and -400F series airplanes; and Model 747SR series airplanes; certificated in any category.

Unsafe Condition

(d) This AD was prompted by reports of cracks of the attach fittings of the trailing edge flaps. We are issuing this AD to prevent cracking and other damage of the actuator attach fittings of the trailing edge flaps, which could result in abnormal operation or retraction of a trailing edge flap, and possible loss of controllability of the airplane.

Compliance: (e) You are responsible for having the actions required by this AD performed within the compliance times specified, unless the actions have already been done.

Requirements of AD 2001-13-12

Affected Airplanes

(f) For Boeing Model 747 series airplanes, as listed in Boeing Service Bulletin 747-57A2310, Revision 2, dated February 22, 2001, do the actions required by paragraphs (g) through (l) of this AD, as applicable.

Actuator Attach Fittings That Have Not Been Overhauled or Replaced

(g) For actuator attach fittings on the outboard flaps that have not been overhauled in accordance with revisions of Boeing 747 Overhaul Manual (OHM) 57-52-55 dated prior to June 1, 1999, or replaced with a new fitting, prior to August 3, 2001 (the effective date of AD 2001-13-12); and for actuator attach fittings on the inboard flap actuators that have not been overhauled in accordance with revisions of OHM 57-52-35, dated prior to June 1, 1999, or replaced with a new fitting, prior to August 3, 2001: Accomplish the actions in paragraph (i), (j), or (k) of this AD at the later of the times specified in paragraphs (g)(1) and (g)(2) of this AD.

(1) Prior to the accumulation of 8 years since date of manufacture or 8,000 total flight cycles, whichever occurs first.

(2) Within 6 months after August 3, 2001.

Actuator Attach Fittings That Have Been Overhauled or Replaced

(h) For actuator attach fittings on the outboard flaps that have been overhauled in accordance with revisions of OHM 57-52-55 dated prior to June 1, 1999, or replaced with a new fitting, prior to August 3, 2001; and for actuator attach fittings on the inboard flap actuators that have been overhauled in accordance with revisions of OHM 57-52-35 dated prior to June 1, 1999, or replaced with a new fitting, prior to August 3, 2001:

Accomplish the actions in paragraph (i), (j), or (k) of this AD at the later of the times specified in paragraphs (h)(1) and (h)(2) of this AD.

(1) Within 8 years or 8,000 total flight cycles after the attach fitting was overhauled or replaced, whichever occurs first.

(2) Within 6 months after August 3, 2001.

Inspections and Corrective Action

(i) Perform a detailed inspection to detect corrosion around the lower bearing journal on the actuator attach fittings on the inboard and outboard flaps, and perform an ultrasonic inspection to detect cracks around the lower bearing journal of the actuator attach fittings on the outboard flaps, in accordance with Boeing Service Bulletin 747-57A2310, Revision 1, dated November 23, 1999; or Revision 2, dated February 22, 2001.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: Inspections, overhauls, and replacements accomplished in accordance with Boeing Alert Service Bulletin 747-57A2310, dated June 17, 1999, are acceptable for compliance with the requirements of paragraph (i) of this AD.

(1) If no corrosion or cracks are detected, repeat the inspections required by paragraph (i) of this AD at intervals not to exceed 18 months. Within 5 years after the initial inspections required by paragraph (i) of this AD, accomplish the actions specified in paragraph (j) or (k) of this AD.

(2) If any corrosion is detected, prior to further flight, remove the corrosion by accomplishing the actions of either paragraph (i)(2)(i) or (i)(2)(ii) of this AD.

(i) If corrosion is within the limits of the Boeing 747 OHM: Prior to further flight, accomplish the actions specified in paragraph (j) or (k) of this AD.

(ii) If corrosion is not within the limits of the Boeing 747 OHM: Prior to further flight, accomplish the actions specified in paragraph (k) or (l) of this AD.

(3) If any crack is detected: Prior to further flight, accomplish the actions specified in paragraph (k) or (l) of this AD.

Overhaul

(j) Do the actions as specified in paragraphs (j)(1) and (j)(2) of this AD in accordance with the Accomplishment Instructions of Boeing Service Bulletin 747-57A2310, Revision 1, dated November 23, 1999; or Revision 2, dated February 22, 2001.

(1) Overhaul the actuator attach fittings on the outboard flaps. Repeat the overhaul of actuators on the outboard flaps as specified in Part 2 of the Work Instructions of the service bulletin thereafter at intervals not to exceed 8 years or 8,000 flight cycles, whichever occurs first. As of the effective date of this AD, the repetitive overhauls must be done in accordance with Part 5 of the Accomplishment Instructions of Boeing Alert Service Bulletin 747-57A2316, dated December 19, 2002, at intervals not to exceed 8 years since last overhaul. Accomplishment of the overhaul of the actuator attach fittings on the outboard flaps constitutes terminating action for the repetitive inspection requirements of paragraph (i)(1) of this AD for outboard flaps.

(2) Overhaul the actuator attach fittings on the inboard flaps. Accomplishment of the overhaul of the actuator attach fittings on the inboard flaps constitutes terminating action for the requirements of paragraphs (g) through (l) of this AD for the actuator attach fittings on the inboard flaps.

Replacement

(k) Replace the actuator attach fittings on the inboard and outboard flaps in accordance with paragraph (k)(1) or (k)(2) of this AD.

(1) Replace the actuator attach fittings on the inboard and outboard flaps with new attach fittings in accordance with “Part 3—Replacement” of Boeing Service Bulletin 747-57A2310, Revision 1, dated November 23, 1999; or Revision 2, dated February 22, 2001. Accomplishment of this replacement constitutes terminating action for the repetitive inspections required by paragraph (i) of this AD for the replaced fitting. Within 8 years or 8,000 flight cycles following accomplishment of the replacement, whichever occurs first, repeat this replacement or accomplish the overhaul specified in paragraph (j) of this AD. As of the effective date of this AD, the repetitive replacements must be done in accordance with Part 5 of the Accomplishment Instructions of Boeing Alert Service Bulletin 747-57A2316, dated December 19, 2002, at intervals not to exceed 8 years since last replacement.

(2) Replace the actuator attach fittings on the inboard and outboard flaps with improved attach fittings in accordance with “Part 4—Terminating Action” of Boeing Service Bulletin 747-57A2310, Revision 2, dated February 22, 2001. If accomplished, this replacement with improved fittings terminates the requirements of paragraphs (g) through (l) of this AD for the replaced fitting.

Note 3: Replacement of the actuator attach fittings on the inboard flaps with fittings that have been overhauled before the effective date of this AD, in accordance with Boeing OHM 57-52-35, Temporary Revision 57-8, dated June 10, 1999; Temporary Revision 57-10, dated May 8, 2000; or Full Revision 57-10, dated July 1, 2000; constitutes terminating action for the requirements of paragraphs (g) through (l) of this AD for the actuator attach fittings on the inboard flaps.

Repair

(l) During any inspection done in accordance with paragraph (i) of this AD, if corrosion is found that is outside the limits specified in the Boeing 747 OHM, or if any crack is detected: In lieu of replacement of the actuator attach fittings in accordance with paragraph (k) of this AD, repair the actuator attach fittings on the inboard and outboard flaps in accordance with a method approved by the Manager, Seattle Aircraft Certification Office (ACO), FAA; or per data meeting the type certification basis of the airplane approved by a Boeing Company Designated Engineering Representative who has been authorized by the Manager, Seattle ACO, to make such findings. For a repair method to be approved by the Manager, Seattle ACO, as required by this paragraph, the Manager's approval letter must specifically reference this AD.

Requirements of AD 2003-08-11

Inspection: Inboard Flap Attach Fittings

(m) Perform borescopic and detailed inspections to detect discrepancies of the inboard flap attach fittings, in accordance with Part 1 of the Accomplishment Instructions of Boeing Alert Service Bulletin 747-57A2316, dated December 19, 2002. Discrepancies include corrosion, pitting, and damaged or missing cadmium plating. Do the inspection at the applicable time specified in paragraph (m)(1) or (m)(2) of this AD.

(1) If the age of the fittings can be determined: Inspect within 14 years since the fittings were new or last overhauled, or within 90 days after May 8, 2003 (the effective date of AD 2003-08-11), whichever occurs later.

(2) If the age of the fittings cannot be determined: Inspect within 90 days after May 8, 2003.

Note 4: The exceptions specified in flag note 4 of Figure 1 of Boeing Alert Service Bulletin 747-57A2316, dated December 19, 2002, apply to the requirements of paragraphs (m) and (n) of this AD.

Inspection: Outboard Flap Attach Fittings

(n) Perform borescopic, detailed, and ultrasonic inspections to detect discrepancies of the outboard flap attach fittings, in accordance with Part 1 of the Accomplishment Instructions of Boeing Alert Service Bulletin 747-57A2316, dated December 19, 2002. Discrepancies include surface corrosion, pitting, damaged or missing cadmium plating, and cracks. Do the inspection at the applicable time specified in paragraph (n)(1) or (n)(2) of this AD.

(1) If the age of the fittings can be determined: Inspect within 8 years since the fittings were new or last overhauled, or within 90 days May 8, 2003, whichever occurs later.

(2) If the age of the fittings cannot be determined: Inspect within 90 days after May 8, 2003.

Follow-on Actions: No Discrepancies Found

(o) If no discrepancy is found during any inspection required by paragraph (m) or (n) of this AD: Do the actions specified by either paragraph (o)(1) or paragraph (o)(2) of this AD.

(1) Repeat the applicable inspections specified in paragraphs (m) and (n) of this AD at intervals not to exceed 9 months until the actions specified in paragraph (o)(2) of this AD have been accomplished.

(2) Perform a detailed inspection of the fitting to detect cracks, corrosion, damaged cadmium plating, or bushing migration, in accordance with and at the time specified in Part 2 of the Accomplishment Instructions of Boeing Alert Service Bulletin 747-57A2316, dated December 19, 2002. Do the follow-on actions in accordance with Parts 3, 4, and 5 of the Accomplishment Instructions of the service bulletin at the times specified in Figure 1 of the service bulletin, as applicable. Accomplishment of these actions terminates the initial and repetitive inspection requirements of paragraphs (m), (n), and (o)(1) of this AD.

Note 5: The exceptions specified in flag note 2 of Figure 1 of Boeing Alert Service Bulletin 747-57A2316, dated December 19, 2002, apply to those requirements of paragraphs (o)(2) and (p) of this AD that are specified in Part 2 of the service bulletin.

Corrective/Follow-on Actions: Discrepancies Found

(p) If any discrepancy is found during any inspection required by paragraph (m), (n), or (o) of this AD: Perform applicable corrective and follow-on actions at the time specified and in accordance with Figure 1 of Boeing Alert Service Bulletin 747-57A2316, dated December 19, 2002. Before further flight: Replace any discrepant fitting in accordance with Part 5 of the Accomplishment Instructions of the service bulletin, and accomplish the follow-on actions for the other fittings common to that flap in accordance with Part 2 of the Accomplishment Instructions of the service bulletin. Replacement of a fitting terminates the initial and repetitive inspections—specified in paragraphs (m), (n), and (o) of this AD—for that fitting only.

Terminating Action for Certain Requirements

(q) Accomplishment of the actions required by paragraphs (m) and (n) of this AD ends the requirements of paragraphs (g) through (k) of this AD, except for the repetitive overhauls and repetitive replacements required by paragraphs (j)(1) and (k)(1) of this AD, respectively.

New Actions Required by This AD

Inspections: Attach Fittings of the Inboard and Outboard Flaps

(r) For airplanes on which the repetitive borescopic, detailed, or ultrasonic (as applicable) inspections required by paragraphs (m), (n), or (o)(1) of this AD are being done as of the effective date of this AD: Inspect as specified in Table 1 of this AD. Accomplishing these actions ends the initial and repetitive inspections required by paragraphs (m), (n), and (o)(1) of this AD.

Table 1.—Inspections of Attach Fittings
Requirements | Description
(1) Compliance time | Except as provided by paragraph (u) of this AD, at the applicable time specified in Figure 1 of Boeing Alert Service Bulletin 747-57A2316, dated December 19, 2002.
(2) Area to inspect | The attach fittings of the inboard and outboard flaps.
(3) Type of inspection | Detailed inspection (inboard and outboard flaps) and ultrasonic inspection (outboard flaps only).
(4) Discrepancies to detect | Surface corrosion, pitting, cracks, migrated or rotated bushings, and damaged or missing cadmium plating.
(5) In accordance with | Part 2 of the Work Instructions of Boeing Alert Service Bulletin 747-57A2316, dated December 19, 2002.

Follow-on Actions: No Discrepancies Detected

(s) If no discrepancy is detected during any inspection required by paragraph (r) of this AD: Do the follow-on actions in accordance with Parts 3, 4, and 5, as applicable, of the Work Instructions of Boeing Alert Service Bulletin 747-57A2316, dated December 19, 2002, at the applicable times specified in Figure 1 of the service bulletin, except as provided by paragraph (u) of this AD.

Overhaul/Replacement and Follow-on/Corrective Actions: Discrepancies Detected

(t) If any discrepancy is detected during any inspection required by paragraph (r) of this AD: Do the actions specified in Table 2 of this AD at the applicable times specified in Figures 1 and 2 of the service bulletin, except as provided by paragraph (v) of this AD.

Table 2.—Discrepancies Found
Requirements | In accordance with Boeing Alert Service Bulletin 747-57A2316, dated December 19, 2002—
(1) Overhaul or replace discrepant fitting with new fitting | Part 5 of Work Instructions.
(2) Do the follow-on and corrective actions for the other fitting common to that flap, except as specified in flag note 2 in Figure 1 of the service bulletin | Parts 2 and 5 of Work Instructions, as applicable.

Compliance Time Requirements

(u) For the requirements of paragraph (r) of this AD: Where Figure 1 of Boeing Alert Service Bulletin 747-57A2316, dated December 19, 2002, states a compliance time “after the original issue date of the service bulletin,” this AD requires compliance within the applicable compliance time after the effective date of this AD.

(v) For the requirements of paragraph (s) of this AD: Where Figure 1 of Boeing Alert Service Bulletin 747-57A2316, dated December 19, 2002, specifies to repeat the overhaul or replacement “every 8 years,” this AD requires compliance at intervals not to exceed 8 years.

Repetitive Overhaul or Replacement

(w) Except as provided in paragraph (x) of this AD, at the applicable time specified in paragraph (w)(1) or (w)(2) of this AD, overhaul the attach fittings on the outboard and inboard flaps or replace the attach fittings with new or overhauled fittings, in accordance with Part 5 of the Work Instructions of Boeing Alert Service Bulletin 747-57A2316, dated December 19, 2002. Repeat the overhaul or replacement thereafter at intervals not to exceed 8 years.

(1) If the age of the fittings can be determined: Overhaul or replace within 8 years since the fittings were new or last overhauled, or within 2 years after the effective date of this AD, whichever occurs later.

(2) If the age of the fittings cannot be determined: Assume that the fittings are more than 14 years old, and overhaul or replace within 2 years after the effective date of this AD.

(x) Accomplishing the repetitive overhauls required by paragraph (j)(1) or repetitive replacements required by paragraph (k)(1) of this AD is acceptable for compliance with the requirements of paragraph (w) of this AD.

Alternative Methods of Compliance (AMOCs)

(y)(1) The Manager, Seattle ACO, FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

(3) AMOCs approved previously in accordance with AD 2001-13-12 are approved as AMOCs with the actions required by paragraphs (g) through (l) of this AD, as applicable. However, AMOCs approved previously are not considered terminating action for the repetitive overhauls or replacements requirements of this AD.

(4) AMOCs approved previously in accordance with AD 2003-08-11 are approved as AMOCs with the actions required by paragraphs (m) through (p) of this AD, as applicable.

Issued in Renton, Washington, on April 6, 2005.
Kalene C. Yanamura,
Acting Manager, Transport Airplane Directorate, Aircraft Certification Service.

[FR Doc. 05-7380 Filed 4-12-05; 8:45 am]

BILLING CODE 4910-13-P